ENVIRONMENTAL PROTECTION AGENCY

[ER-FRL-8596-7]

Environmental Impacts Statements; Notice of Availability

Responsible Agency: Office of Federal Activities, General Information (202) 564-1399 or http://www.epa.gov/compliance/nepa/.

Weekly receipt of Environmental Impact Statements filed 08/17/2009 through 08/21/2009. Pursuant to 40 CFR 1506.9.

EIS No. 20090293, Final EIS, NPS, PA, White-Tailed Deer Management Plan, Development of a Deer Management Strategy that Supports Protection, Preservation, and Restoration of Native Vegetation, Implementation, Valley Forge National Historical Park, Chester and Montgomery Counties, PA, Wait Period Ends: 09/28/2009, Contact: Kristina M. Heister 610-783-0252.

EIS No. 20090294, Draft EIS, AFS, OR, Off-Highway Vehicle (OHV) Management Plan, Including Forest Plan Amendment #17, Designation of Roads, Trails and Areas for OHV Use on Mt. Hood National Forest, Implementation, Clackamas, Hood River, Multnomah, and Wasco Counties, OR, Comment Period Ends: 10/28/2009, Contact: Jennie O'Connor Card 541-352-6002 ext. 634.

EIS No. 20090295, Draft EIS, FRC, 00, Bison Pipeline Project (Docket No. CP09-161-000), Construction, Operation, and Maintenance of Interstate Natural Gas Pipeline Facilities, Application for Right-of-Way Grant and Temporary Use Permit, NPDES Permit and US COE 404 Permit, WY, MT, and ND, Comment Period Ends: 10/13/2009, Contact: Julie Bovey 1-866-208-3372.

EIS No. 20090296, Draft EIS, SFW, CA, Sears Point Wetland and Watershed Restoration Project, To Restore Tidal Wetlands and Rehabilitate Diked Wetlands, Sonoma County, CA, Comment Period Ends: 10/13/2009, Contact: Christy Smith 707-769-4200.

EIS No. 20090297, Final EIS, EPA, ND, Mandan, Hidatsa and Arikara Nation's Proposed Clean Fuels Refinery Project, Construction and Operation of a New 13, 000 Barrel of Production per day Clean Fuels Refinery and Grow Hay for Buffalo, NPDES Permit, Fort Berthold Indian Reservation, Ward County, ND, Wait Period Ends: 09/28/2009, Contact: Steve Wharton 303-312-6935. US EPA and US DOI's BIA are co-lead agencies for the above project.

Agencies contact are: Steve Wharton, EPA (303) 312-6935 and Mike Black, BIA (605) 226-7621.

EIS No. 20090298, Draft EIS, COE, CA, Natomas Levee Improvement Program Phase 4a Landside Improvement Project, Issuing of 408 Permission and 404 Permit, California Department of Water Resources (DWR) and the California Central Valley Flood Protection Board, Sutter and Sacramento Counties, CA, Comment Period Ends: 10/13/2009, Contact: Elizabeth G. Holland 916-557-6763.

EIS No. 20090299, Final EIS, FHW, UT, Geneva Road, Center Street/1600 West (Provo) to Geneva Road/SR-89 (Pleasant Grove), Improvements, U.S. Army COE 404 Permit, Utah County, UT, Wait Period Ends: 09/28/2009, Contact: Bryan Dillon 801-963-0182.

EIS No. 20090300, Final EIS, NPS, AZ, Fire Management Plan, Management of Wildland and Prescribed Fire, Protection of Human Life and Property Restoration and Maintenance of Fire Dependent Ecosystems, and Reduction of Hazardous Fuels, Grand Canyon National Park, Coconino County, AZ, Wait Period Ends: 09/28/2009, Contact: Chris Marks 928-606-1050.

Amended Notices

EIS No. 20090279, Draft EIS, BLM, WA, Blackfoot Bridge Mine Project, Developing Three Mine Pits, Haul Roads, Water Management Structures, and Overburden Disposal Areas, Implementation, Caribou County, ID, Comment Period Ends: 10/31/2009, Contact: Kyle Free 208-478-6368.

Revision of FR Notice Published on 08/21/09: Extension to Comment Period from 10/01/2009 to 10/31/2009.

Dated: August 25, 2009.
Ken Mittelholtz,
Deputy Director, NEPA Compliance Division, Office of Federal Activities.

[FR Doc. E9-20809 Filed 8-27-09; 8:45 am]

BILLING CODE 6560-50-P